DEPARTMENT OF ENERGY

Federal Energy Regulatory Commission

[Docket No. PR02-10-000]

Enogex, Inc.; Notice of Technical Conference

April 9, 2002.

Take notice that a technical conference will be held on Monday April 22, 2002, at 9 a.m., in a room to be designated at the offices of the Federal Energy Regulatory Commission, 888 First Street, NE., Washington, DC 20426.

All interested parties and Staff are permitted to attend.

Magalie R. Salas,
Secretary.

[FR Doc. 02-9029 Filed 4-12-02; 8:45 am]

BILLING CODE 6717-01-P